DEPARTMENT OF TRANSPORTATION

Federal Railroad Administration

Petition for Modification of a Waiver of Compliance

In accordance with 49 CFR 211.9 and 211.41 notice is hereby given that the Federal Railroad Administration (FRA) has received a request for a modification to a waiver of compliance from certain requirements of Federal railroad safety regulations. The individual petition is described below, including the party seeking relief, the regulatory provisions involved, the nature of the relief being requested and the petitioner's arguments in favor of relief.

CSX Transportation (Waiver Petition Docket Number FRA-2002-12507)

In 1998, CSX Transportation (CSXT) initiated a pilot program to develop, implement, and test technology designed to meet the RSAC Positive Train Control core objectives to prevent train collisions, overspeed derailments, and to further protect on-track workers. The system is referred to as Communications Based Train Management (CBTM). CSXT was granted a waiver for testing on the pilot territory between Spartanburg, South Carolina, and Augusta, Georgia. That waiver was granted as H-98-6, and has since been redocketed as FRA-2002-12507.

After successful completion of all lab and field qualification tests in 2000, crews began using the system when they operate an equipped locomotive over the pilot territory. Data is currently being gathered on CBTM's performance and crew acceptance in order to determine the requirements for a production system.

CSXT has requested to modify the existing waiver by extending the CBTM pilot territory to include the Blue Ridge subdivision, between Erwin, Tennessee, (milepost Z 138.0) and Spartanburg, South Carolina, (milepost MP Z 276.6) for the duration of the waiver, which has been granted through the conclusion of the test program. This expansion would allow CSXT to complete the software development necessary to adapt CBTM's basic principles to the signaled territory.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 30 days of the date of this notice will be considered by the FRA before final action is taken. Comments received after that date will be considered as far as practicable. All written communications concerning these proceedings are available for examination during regular business hours (9 a.m.-5 p.m.) at the above facility. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC on April 25, 2003.
Grady C. Cothen, Jr.,
Deputy Associate Administrator for Safety Standards and Program Development.

[FR Doc. 03-10833 Filed 5-1-03; 8:45 am]

BILLING CODE 4910-06-P